DEPARTMENT OF ENERGY

Office of Science; Energy Biosciences Program, et al.; Extension of Due Date for Notices Inviting Grant Applications

AGENCY: Department of Energy (DOE).

ACTION: Extension of due dates for notices inviting grant applications.

The Office of Science (SC), U. S. Department of Energy (DOE), hereby extends the due dates for the following notices:

Notice 01-15: Energy Biosciences Program.

Published in FR, Vol. 66, No. 2, pages 356-357, January 3, 2001.

The deadline for formal applications has been extended to July 13, 2001.

Notice 01-24: Theoretical Research in Plasma and Fusion Science.

Published in FR, Vol. 66, No. 61, pages 17165-17167, March 29, 2001.

The deadline for formal applications has been extended to July 13, 2001.

Notice 01-25: Development of Diagnostic Systems for Magnetic Fusion Energy Sciences.

Experiments Published in FR, Vol. 66, No. 78, pages 20442-20443, April 23, 2001.

The deadline for the Letter-of-Intent has been extended to July 27, 2001.

The deadline for formal applications has been extended to August 31, 2001.

Notice 01-26: Program for Ecosystem Research (PER).

Published in FR, Vol. 66, No. 97, pages 27636-27638, May 18, 2001.

The deadline for preapplications has been extended to August 2, 2001.

The deadline for formal applications has been extended to September 13, 2001.

FOR FURTHER INFORMATION CONTACT:

Notice 01-15: Energy Biosciences Program

Ms. Pat Snyder, Chemical Sciences, Geosciences and Biosciences Division, Office of Basic Energy Sciences, SC-143, 19901 Germantown Road, Germantown, MD 20874-1290, telephone (301) 903-2873; E-mail pat.snyder@science.doe.gov.

Notice 01-24: Theoretical Research in Plasma and Fusion Science

Office of Fusion Energy Sciences, U.S. Department of Energy, 19901 Germantown Road, Germantown, MD 20874-1290. Specific contacts for each area of interest, along with telephone numbers and Internet addresses, are listed below:

Magnetohydrodynamics and Stability: Rostom Dagazian, Research Division, SC-55, Telephone: (301) 903-4926, or by Internet address, rostom.dagazian@science.doe.gov.

Confinement and Transport: Curt Bolton, Research Division, SC-55, Telephone: (301) 903-4914, or by Internet address, curt.bolton@science.doe.gov.

Edge and Divertor Physics: Walter Sadowski, Research Division, SC-55, Telephone: (301) 903-4678, or by Internet address, walt.sadowski@science.doe.gov.

Plasma Heating and Non-inductive Current Drive: Walter Sadowski, Research Division, SC-55, Telephone: (301) 903-4678, or by Internet address, walt.sadowski@science.doe.gov.

Innovative Confinement Concepts: Steve Eckstrand, Research Division, SC-55, Telephone: (301) 903-5546, or by Internet address, steve.eckstrand@science.doe.gov.

Atomic and Molecular Processes in Plasmas: Mike Crisp, Research Division, SC-55, Telephone: (301) 903-4883, or by Internet address, michael.crisp@science.doe.gov.

Notice 01-25: Development of Diagnostic Systems for Magnetic Fusion Energy Sciences Experiments

Darlene Markevich, SC-55 GTN, U.S. Department of Energy, 19901 Germantown Road, Germantown, MD 20874-1290, telephone (301) 903-4920, or by e-mail address, darlene.markevich@science.doe.gov. Or contact John Sauter, SC-55 GTN, U.S. Department of Energy, 19901 Germantown Road, Germantown, MD 20874-1290, telephone 301-903-3287, or by e-mail address, john.sauter@science.doe.gov.

Notice 01-26: Program for Ecosystem Research (PER)

Dr. Jeffrey S. Amthor, Environmental Sciences Division, SC-74, Office of Biological and Environmental Research, U.S. Department of Energy, 19901 Germantown Road, Germantown, MD 20874-1290, telephone (301) 903-2507, e-mail: Jeff.Amthor@science.doe.gov, fax: (301) 903-8519.

Issued in Washington DC on July 3, 2001.
John Rodney Clark,
Associate Director of Science for Resource Management.

[FR Doc. 01-17547 Filed 7-12-01; 8:45 am]

BILLING CODE 6450-01-P